DEPARTMENT OF AGRICULTURE

U.S. Codex Office

[Docket No. TFAA-2019-0001]

International Standard-Setting Activities

AGENCY: Office of Trade and Foreign Agricultural Affairs (TFAA), U.S. Codex Office, USDA.

ACTION: Notice.

SUMMARY: This notice informs the public of the sanitary and phytosanitary standard-setting activities of the Codex Alimentarius Commission (Codex), in accordance with section 491 of the Trade Agreements Act of 1979, as amended, and the Uruguay Round Agreements Act. This notice also provides a list of other standard-setting activities of Codex, including commodity standards, guidelines, codes of practice, and revised texts. This notice, which covers Codex activities during the time periods from July 20, 2018 to June 21, 2019 and June 21, 2019 to May 31, 2020, seeks comments on standards under consideration and recommendations for new standards.

ADDRESSES: The U.S. Codex Office invites interested persons to submit their comments on this notice. Comments may be submitted by one of the following methods:

• Federal e-Rulemaking Portal: This website provides the ability to type short comments directly into the comment field on this web page or attach a file for lengthier comments. Go to http://www.regulations.gov. Follow the on-line instructions at the website for submitting comments.

• Mail, including CD-ROMs, etc.: Send to Docket Clerk, U.S. Department of Agriculture, Office of Trade and Foreign Agricultural Affairs, 1400 Independence Avenue SW, Mailstop S4861, Washington, DC 20250-3700.

• Hand- or courier-delivered submittals: Deliver to 1400 Independence Avenue SW, Room 6065, Washington, DC 20250-3700.

Instructions: All items submitted by mail or email are to include the Agency name and docket number TFAA-2019-0001. Comments received in response to this docket will be made available for public inspection and posted without change, including any personal information to http://www.regulations.gov.

Please state that your comments refer to Codex and, if your comments relate to specific Codex committees, please identify the committee(s) in your comments and submit a copy of your comments to the delegate from that particular committee.

Docket: For access to background documents or comments received, call (202) 720-5627 to schedule a time to visit the TFAA Docket Room at 1400 Independence Avenue SW, Room S4861, Washington, DC 20250-3700.

FOR FURTHER INFORMATION CONTACT: Ms. Mary Frances Lowe, United States Manager for Codex Alimentarius, U.S. Department of Agriculture, Office of Trade and Foreign Agricultural Affairs, South Agriculture Building, 1400 Independence Avenue SW, Room 4861, Washington, DC 20250-3700; Telephone: (202) 205-7760; Fax: (202) 720-3157; Email: uscodex@usda.gov.

For information pertaining to particular committees, contact the delegate of that committee. A complete list of U.S. delegates and alternate delegates can be found in Attachment 2 of this notice. Documents pertaining to Codex and specific committee agendas are accessible via the internet at http://www.codexalimentarius.org/meetings-reports/en/. The U.S. Codex Office also maintains a website at http://www.usda.gov/codex.

SUPPLEMENTARY INFORMATION:

Background

The World Trade Organization (WTO) was established on January 1, 1995, as the common international institutional framework for the conduct of trade relations among its members in matters related to the Uruguay Round Trade Agreements. The WTO is the successor organization to the General Agreement on Tariffs and Trade (GATT). United States membership in the WTO was approved and the Uruguay Round Agreements Act (Uruguay Round Agreements) was signed into law by the President on December 8, 1994, Public Law 103-465, 108 Stat. 4809. The Uruguay Round Agreements became effective, with respect to the United States, on January 1, 1995. The Uruguay Round Agreements amended the Trade Agreements Act of 1979. Pursuant to section 491 of the Trade Agreements Act of 1979, as amended, the President is required to designate an agency to be “responsible for informing the public of the sanitary and phytosanitary (SPS) standard-setting activities of each international standard-setting organization” (19 U.S.C. 2578). The main international standard-setting organizations are Codex, the World Organisation for Animal Health, and the International Plant Protection Convention. The President, pursuant to Proclamation No. 6780 of March 23, 1995, (60 FR 15845), designated the U.S. Department of Agriculture as the agency responsible for informing the public of the SPS standard-setting activities of each international standard-setting organization. The Secretary of Agriculture has delegated to the Office of Trade and Foreign Agricultural Affairs the responsibility to inform the public of the SPS standard-setting activities of Codex. The Office of Trade and Foreign Agricultural Affairs has, in turn, assigned the responsibility for informing the public of the SPS standard-setting activities of Codex to the U.S. Codex Office (USCO).

Codex was created in 1963 by two United Nations organizations, the Food and Agriculture Organization (FAO) and the World Health Organization (WHO). Codex is the principal international organization for establishing standards for food. Through adoption of food standards, codes of practice, and other guidelines developed by its committees and by promoting their adoption and implementation by governments, Codex seeks to protect the health of consumers, ensure fair practices in the food trade, and promote coordination of food standards work undertaken by international governmental and nongovernmental organizations. In the United States, U.S. Codex activities are managed and carried out by the United States Department of Agriculture (USDA); the Food and Drug Administration (FDA), Department of Health and Human Services (HHS); the National Oceanic and Atmospheric Administration (NOAA), Department of Commerce (DOC); and the Environmental Protection Agency (EPA).

As the agency responsible for informing the public of the SPS standard-setting activities of Codex, the U.S. Codex Office publishes this notice in the Federal Register annually. Attachment 1 (Sanitary and Phytosanitary Activities of Codex) sets forth the following information:

1. The SPS standards under consideration or planned for consideration; and

2. For each SPS standard specified:

a. A description of the consideration or planned consideration of the standard;

b. Whether the United States is participating or plans to participate in the consideration of the standard;

c. The agenda for United States participation, if any; and

d. The agency responsible for representing the United States with respect to the standard.

To obtain copies of the standards listed in attachment 1, please contact the Codex delegate or the U.S. Codex Office.

This notice also solicits public comment on standards that are currently under consideration or planned for consideration and recommendations for new standards. The delegate, in conjunction with the responsible agency, will take the comments received into account in participating in the consideration of the standards and in proposing matters to be considered by Codex.

The U.S. delegate will facilitate public participation in the United States Government's activities relating to Codex. The U.S. delegate will maintain a list of individuals, groups, and organizations that have expressed an interest in the activities of the Codex committees and will disseminate information regarding U.S. delegation activities to interested parties. This information will include the status of each agenda item; the U.S. Government's position or preliminary position on the agenda items; and the time and place of planning meetings and debriefing meetings following the Codex committee sessions. In addition, the U.S. Codex Office makes much of the same information available through its web page at http://www.usda.gov/codex. If you would like to access or receive information about specific committees, please visit the web page or notify the appropriate U.S. delegate or the U.S. Codex Office, Room 4861, South Agriculture Building, 1400 Independence Avenue SW, Washington, DC 20250-3700 (uscodex@usda.gov).

The information provided in Attachment 1 describes the status of Codex standard-setting activities by the Codex committees for the time periods from July 20, 2018 to June 21, 2019 and June 21, 2019 to May 31, 2020. Attachment 2 provides a list of U.S. Codex Officials (including U.S. delegates and alternate delegates). A list of forthcoming Codex sessions may be found at: http://www.fao.org/fao-who-codexalimentarius/meetings/en/.

Additional Public Notification

Public awareness of all segments of rulemaking and policy development is important. Consequently, the U.S. Codex Office will announce this Federal Register publication on-line through the U.S. Codex web page located at: https://www.federalregister.gov/agencies/us-codex-office.

Done at Washington, DC.
Mary Lowe,
U.S. Manager for Codex Alimentarius.

ATTACHMENT 1

Sanitary and Phytosanitary Activities of Codex

Codex Alimentarius Commission and Executive Committee

The Codex Alimentarius Commission (CAC) will convene for its 42nd Session on July 8-12, 2019 in Geneva, Switzerland. At that time, the Commission will consider adopting standards recommended by committees at Step 8 or 5/8 (final adoption) and advance the work of committees by adopting draft standards at Step 5 (for further comment and consideration by the relevant committee). The Commission will also consider revocation of Codex texts; proposals for new work; discontinuation of work; amendments to Codex standards and related texts; matters arising for the Reports of the Commission, the Executive Committee, and subsidiary bodies; Codex Strategic Plan 2020-2025; Codex budgetary and financial matters; FAO/WHO scientific support to Codex (activities, budgetary, and financial matters); matters arising from FAO/WHO; reports of the side event on FAO and WHO capacity development activities; report of the side event on the Codex Trust Fund (CTF2); election of the chairperson and vice-chairpersons and members of the Executive Committee elected on a geographical basis; designation of countries responsible for appointing the chairpersons of Codex subsidiary bodies; any other business; and adoption of the report.

Before the Commission meeting, the Executive Committee (CCEXEC) will meet at its 77th Session on July 1-7, 2019. It is composed of the Commission chairperson; vice-chairpersons; seven members elected by the Commission from each of the following geographic regions: Africa, Asia, Europe, Latin America and the Caribbean, Near East, North America, and South-West Pacific; and regional coordinators from the six regional committees. The United States will participate as the member elected on a geographical basis for North America. The Executive Committee will report on the work of the strategic planning sub-committee of CCEXEC on the Codex Strategic Plan 2020-2025, and consider the following agenda items: the implementation status of the Codex Strategic Plan 2014-2019; regular review of Codex work management from 2018-2019; critical review process in a follow-up to the regular review of Codex work management from 2017-2018; regular review of Codex work management for 2019-2020; history and implications of the fourth paragraph of the Statement of Principle; Codex budgetary and financial matters; FAO/WHO scientific support to Codex activities (activities, budgetary, and financial matters); matters arising from FAO and WHO; applications from international non-governmental organizations for observer status in Codex; organization of the 42nd Session of the Codex Alimentarius Commission; and any other business.

Responsible Agency: USDA/TFAA/USCO.

U.S. Participation: Yes.

Codex Committee on Contaminants in Foods

The Codex Committee on Contaminants in Foods (CCCF) establishes or endorses permitted maximum levels (MLs) and, where necessary, revises existing guideline levels (GLs) for contaminants and naturally occurring toxicants in food and feed; prepares priority lists of contaminants and naturally occurring toxicants for risk assessment by the Joint FAO/WHO Expert Committee on Food Additives (JECFA); considers and elaborates methods of analysis and sampling for the determination of contaminants and naturally occurring toxicants in food and feed; considers and elaborates on standards or codes of practice (CoPs) for related subjects; and considers other matters assigned to it by the Commission in relation to contaminants and naturally occurring toxicants in food and feed.

The committee convened for its 13th Session in Yogyakarta, Indonesia, April 29-May 3, 2019. The relevant document is REP 19/CF.

The following items will be considered by the 42nd Session of the Commission in July 2019:

To be considered for final adoption at Step 8:

• Draft CoP for the Reduction of 3-monochloropropane-1,2-diol esters (3-MCPDEs) and glycidyl esters (GE) in Refined Oils and Food Products Made with Refined Oils (REP 19/CF Para. 79, Appendix IV);

• Draft Guidelines for Rapid Risk Analysis Following Instances of Detection of Contaminants in Food Where There is No Regulatory Level.

To be considered for final adoption at Step 5/8:

• Proposed Draft Revised MLs for Lead in Selected Commodities in the General Standard for Contaminants and Toxins in Food and Feed (GSCTFF) (Codex Standard (CXS) 193-1995);

• Proposed Draft ML for Cadmium in Chocolates Containing or Declaring <30% Total Cocoa Solids on a Dry Matter Basis.

To be considered for approval as new work:

• Establishment of MLs for Aflatoxins in Certain Cereals and Cereal-based Products including Foods for Infants and Young Children;

• Establishment of MLs for Lead in Certain Food Categories;

• Revision of the CoP for the Prevention and Reduction of Lead Contamination in Foods;

• Development of a CoP for the Prevention and Reduction of Cadmium Contamination in Cocoa Beans;

To be considered for revocation:

• MLs for Lead in Selected Commodities in the GSCTFF.

The committee will continue to discuss the following items:

• Establishment of MLs for cadmium in chocolate and chocolate products containing or declaring ≥30% to <50% total cocoa solids on a dry matter basis; and cocoa powder (100% total cocoa solids on a dry matter basis);

• Discussion paper on radioactivity in feed and food;

• Discussion paper on lead and cadmium in quinoa;

• Discussion paper on MLs for methylmercury for additional fish species;

• Discussion papers on fermented cassava products and mitigation measures to support development of a CoP for prevention and reduction of mycotoxins in cassava and cassava products;

• General guidance on data analysis for ML development and improved data collection;

• Forward work plan for CCCF, including:

○ Identification of key staple food/contaminant combinations;

○ An approach to identify the need for review of existing CCCF standards that may need revision;

○ Pilot project on evaluation of implementation of CoPs.

Responsible Agencies: HHS/FDA; USDA/FSIS.

U.S. Participation: Yes.

Codex Committee on Cereals, Pulses and Legumes

The Codex Committee on Cereals, Pulses and Legumes (CCCPL) elaborates worldwide standards and/or Codes of Practice, as appropriate, for cereals, pulses and legumes and their products.

The committee has been reactivated to work by correspondence to draft an international Codex Standard for Quinoa. The relevant document is REP 19/CPL.

The following items will be considered by the 42nd Session of the Commission in July 2019:

To be considered for final adoption at Step 8:

• Draft Two Sections in the Standard for Quinoa.

No additional work is ongoing in this committee. It will again be adjourned sine die once the work on the international Codex Standard for Quinoa is completed.

Responsible Agencies: HHS/FDA.

U.S. Participation: Yes.

Codex Committee on Food Additives

The Codex Committee on Food Additives (CCFA) establishes or endorses acceptable maximum levels (MLs) for individual food additives; prepares a priority list of food additives for risk assessment by the JECFA; assigns functional classes to individual food additives; recommends specifications of identity and purity for food additives for adoption by the Codex Alimentarius Commission; considers methods of analysis for the determination of additives in food; and considers and elaborates standards or codes of practice for related subjects such as the labeling of food additives when sold as such.

The committee convened for its 51st Session in Jinan, China, March 25-29, 2019. The relevant document is REP 19/FA. Immediately prior to the Plenary Session, there was a one and a half day Physical Working Group (PWG) on the General Standard for Food Additives (GSFA) chaired by the United States and a half day PWG on Alignment chaired by Australia.

The following items will be considered by the 42nd Session of the Commission in July 2019:

To be considered for final adoption at Step 5/8:

• Proposed Draft Specifications for the Identity and Purity of Food Additives Arising from the 86th JECFA Meeting;

• Revision of the Class Names and the International Numbering System for Food Additives (CXG 36-1989).

To be considered for final adoption at Step 8 and 5/8:

• Draft and Proposed Draft Food-Additive Provisions of the General Standard for Food Additives.

Also to be considered for final adoption:

• Revised Food Additive Provisions of the GSFA in Relation to the Alignment of the Thirteen Standards for Milk and Milk Products (Ripened Cheese), Two Standards for Sugars, Two Standards for Natural Mineral Waters, Three Standards for Cereals, Pulses and Legumes, and Three Standards for Vegetable Proteins;

• Revised Food Additive Provisions of the GSFA in Relation to the Alignment of Provisions for Ascorbyl Esters (ascorbyl palmitate (INS 304) and ascorbyl stearate (INS) 305)) and the Standards for Infant Formula and Formula for Special Dietary Purposes Intended for Infants (CXS 72-1981) and Follow-up Formula (CXS 156-1987);

• Revised Food-Additive Sections of the Thirteen Standards for Milk and Milk Products (Ripened Cheese), i.e. Standards for Cheddar (CXS 263-1966); Danbo (CXS 264-1966); Edam (CXS 265-1966); Gouda (CXS 266-1966); Havarti (CXS 267-1966); Samsø (CXS 268-1966); Emmental (CXS 269-1967); Tilsiter (CXS 270-1968); Saint-Paulin (CXS 271-1968); Provolone (CXS 272-1968); Coulommiers (CXS 274-1969); Camembert (CXS 276-1973); and Brie (CXS 277-1973);

• Revised Food-Additive Sections of the Two Standards for Sugars and Two Standards for Natural Mineral Waters, i.e. Standards for Honey (CXS 12-1981); and Sugars (CXS 212-1999) and Standards for Natural Mineral Waters (CXS 108-1981); and Bottled/Packaged Drinking Waters (other than natural mineral waters) (CXS 227-2001);

• Revised Food-Additive Sections of the Three Standards for Cereals, Pulses and Legumes and Three Standards for Vegetable Proteins, i.e. Standards for Wheat flour (CXS 152-1985); Couscous (CXS 202-1995); and Instant noodles (CXS 249-2006); and Wheat protein products including wheat gluten (CXS 163-1987); Vegetable protein products (VPP) (CXS 174-1989); and Soy protein products (CXS 175-1989);

• Revised Food-Additive Provisions of the GSFA in Relation to the Replacement Notes to Note 161;

• Insertion of a Footnote to the Table Entitled “References to Commodity Standards for GSFA Table 3 Additives”;

• The Revised Table on “Justified use” in Food Additive section in the Standard for Mozzarella (CXS 262-2006).

To be considered for discontinuation:

• Draft and proposed draft food additive provisions of the GSFA.

The committee will continue working on:

• Draft and Proposed draft food additive provisions of the GSFA (Electronic Working Group (EWG) led by the United States);

• Proposals for additions and changes to the Priority List of Substances Proposed for Evaluation by JECFA (PWG led by Canada);

• Alignment of the food additive provisions of commodity standards and relevant provisions of the GSFA (EWG led by Australia, Japan and the United States);

• Revision of the Class Names and the International Numbering System for Food Additives (EWG led by Belgium);

• Provisions related to the use of sweeteners with Note 161 attached to (1) determine if sweeteners or flavor enhancers are justified in specific food categories and (2) developing wording for an alternative to Note 161 relating to the use of sweeteners or flavor enhancers in food categories where the use is technologically justified;

• Issues with the online GSFA which prevent the implementation of committee decisions and to inform the Executive Committee on this matter.

The committee also agreed to hold a one and half day PWG on the GSFA immediately preceding the 52nd Session of CCFA to be chaired by the United States. That group will discuss:

• The recommendations of the EWG on the GSFA and new proposals and proposed revisions of food additive provisions in the GSFA.

The committee also agreed to hold a half day PWG on Alignment immediately preceding the 52nd Session of CCFA to be chaired by Australia. That group will discuss the recommendations of the EWG on Alignment.

Responsible Agency: HHS/FDA.

U.S. Participation: Yes.

Codex Committee on Fresh Fruits and Vegetables

The Codex Committee on Fresh Fruits and Vegetables (CCFFV) is responsible for elaborating worldwide standards and codes of practice, as may be appropriate, for fresh fruits and vegetables, consulting as necessary, with other international organizations in the standards development process to avoid duplication.

The committee convened for its 20th Session in Kampala, Uganda, on October 2-6, 2017. The relevant document is REP 17/FFV.

The committee does not have items that will be considered by the 42nd Session of the Commission in July 2019.

The committee will continue working on the following items:

• Draft standard for garlic;

• Draft standard for kiwifruit;

• Proposed draft standard for ware potatoes;

• Proposed draft standard for fresh dates;

• Proposed draft standard for yams;

• Proposed draft standard for onions and shallots;

• Proposed draft standard for berry fruits;

• Discussion paper on glossary terms used in the layout for Codex standards for fresh fruits and vegetables.

Responsible Agencies: USDA/Agricultural Marketing Services (AMS); HHS/FDA.

U.S. Participation: Yes.

Codex Committee on Food Hygiene

The Codex Committee on Food Hygiene (CCFH) is responsible for developing basic provisions on food hygiene, applicable to all food or to specific food types; considering and amending or endorsing provisions on food hygiene contained in Codex commodity standards and CoP developed by other committees; considering specific food hygiene problems assigned to it by the Commission; suggesting and prioritizing areas where there is a need for microbiological risk assessment at the international level and developing questions to be addressed by the risk assessors; and considering microbiological risk management matters in relation to food hygiene and in relation to the FAO/WHO risk assessments.

The committee convened for its 50th Session in Panama City, Panama, November 12-16, 2018. The relevant document is REP 19/FH.

The following items will be considered by the 42nd Session of the Commission in July 2019:

To be considered for final adoption Step 5/8:

• Alignment of the Code of Practice for Fish and Fishery Products with the Histamine Control Guidance.

To be considered for adoption Step 5, allowing for further consideration by the next session of CCFH:

• Proposed Draft Code of Practice on Food Allergen Management for Food Business Operators.

To be considered for approval as new work:

• Development of Guidelines for the Control of Shiga Toxin-Producing Escherichia coli (STEC) in Beef Meat, Leafy Greens, Raw Milk and Cheese Produced from Raw Milk, and Sprouts.

To be considered for discontinuation:

• Development of Histamine Sampling Guidance in 11 Commodity Standards for Fish and Fishery Products.

The committee will continue working on:

• Proposed draft Revision of the General Principles of Food Hygiene and its HACCP Annex;

• Guidance for the Management of Biological Foodborne Outbreaks;

• New work proposals/forward workplan.

Responsible Agencies: HHS/FDA; USDA/FSIS.

U.S. Participation: Yes.

Codex Committee on Food Import and Export Inspection and Certification Systems

The Codex Committee on Food Import and Export Inspection and Certification Systems (CCFICS) is responsible for developing principles and guidelines for food import and export inspection and certification systems, with a view to harmonizing methods and procedures that protect the health of consumers, ensure fair trading practices, and facilitate international trade in foodstuffs; developing principles and guidelines for the application of measures by the competent authorities of exporting and importing countries to provide assurance, where necessary, that foodstuffs comply with requirements, especially statutory health requirements; developing guidelines for the utilization, as and when appropriate, of quality assurance systems to ensure that foodstuffs conform with requirements and promote the recognition of these systems in facilitating trade in food products under bilateral/multilateral arrangements by countries; developing guidelines and criteria with respect to format, declarations, and language of such official certificates as countries may require with a view towards international harmonization; making recommendations for information exchange in relation to food import/export control; consulting as necessary with other international groups working on matters related to food inspection and certification systems; and considering other matters assigned to it by the Commission in relation to food inspection and certification systems.

The committee convened for its 24th Session in Brisbane Australia, October 22-26, 2018. The relevant document is REP 19/FICS.

The following items will be considered by the 42nd Session of the Commission in July 2019:

To be considered for adoption at Step 5, allowing for further consideration at the next session of CCFICS:

• Draft Principles and Guidelines for the Assessment and Use of Voluntary Third-Party Assurance (vTPA) Programmes.

To be considered for approval as new work:

• Project Document for New Work on the Consolidation of Codex Guidelines Related to Equivalence.

To be considered for information:

• Outcome of the assessment of the experimental approach for Intersessional physical Working Groups combined with webinar technology;

• Ongoing discussions on food integrity food authenticity and food fraud.

The committee also agreed to continue working on the following items through electronic Working Groups (EWG):

• Proposed draft guidelines on recognition and maintenance of equivalence of National Food Control Systems;

• Proposed draft consolidated Codex guidelines related to equivalence;

• Proposed draft guidance on paperless use of electronic certificates (Revision of Guidelines for Design, Production, Issuance, and Use of Generic Official Certificates);

• Draft principles and guidelines for the assessment and use of voluntary Third-Party Assurance (vTPA) programs;

• Discussion paper on the role of CCFICS with respect to tackling food fraud in the context of food safety and fair practices in food trade.

Responsible Agencies: USDA/FSIS; HHS/FDA.

U.S. Participation: Yes.

Codex Committee on Food Labelling

The Codex Committee on Food Labelling (CCFL) drafts provisions on labeling applicable to all foods; considers, amends, and endorses draft specific provisions on labeling prepared by the Codex Committees drafting standards, codes of practice, and guidelines; and studies specific labeling problems assigned to it by the Codex Alimentarius Commission. The Committee also studies problems associated with the advertisement of food with particular reference to claims and misleading descriptions.

The Committee convened its 45th Session in Ottawa, Canada, May 13-17, 2019. The relevant document is REP 19/FL.

The following items will be considered by the 42nd Session of the Commission in July 2019:

To be considered for adoption at Step 5, allowing for further consideration at the next session of CCFL:

• Proposed Draft Guidance for the Labelling of Non-retail Containers.

To be considered for approval as new work:

• Revision to the General Standard for the Labelling of Prepackaged Foods: Allergen Labelling and Guidance on the Precautionary Allergen or Advisory Labelling;

• Proposed Draft Guidance on Internet Sales/E-Commerce.

The committee will continue working on the following items:

• Proposed draft guidelines on front-of-pack nutrition labelling;

• Discussion paper on innovation- use of technology in food labelling;

• Discussion paper on labelling of alcoholic beverages;

• Discussion paper on labelling of foods in joint presentation and multipack formats;

• Discussion paper on future work and direction of CCFL (update).

Responsible Agencies: HHS/FDA; USDA/FSIS.

U.S. Participation: Yes.

Codex Committee on Fats and Oils

The Codex Committee on Fats and Oils (CCFO) is responsible for elaborating worldwide standards for fats and oils of animal, vegetable, and marine origin, including margarine and olive oil.

The Committee convened for its 26th Session in Kuala Lumpur, Malaysia, February 25-March 1, 2019. The relevant document is REP 19/FO.

The following items will be considered by the 42nd Session of the Commission in July 2019:

To be considered for adoption at final Step 8 and 5/8:

• Revision to the Standard for Named Vegetable Oils:

○ Addition of palm oil with high content of oleic acid (OXG);

○ Amendment to the values of the refractive index and apparent density of palm superolein at 40°C;

○ Inclusion of almond oil, flaxseed (linseed) oil, hazelnut oil, pistachio oil, and walnut oil;

○ Replacement of acid value with free fatty acids for virgin palm oil and inclusion of free fatty acids for crude palm kernel oil;

○ Revision to Table 1: applicability of the fatty acid composition of other oils (listed in table 1) in relation to their corresponding crude form and consequential deletion of an equivalent note for rice bran oil;

○ Inclusion of free fatty acids as quality characteristic criteria for refined rice bran oil.

• Alignment of Food Additives Provisions in Standards for Fats and Oils (Excepts Fish Oils) and Technological Justification for Use of Emulsifiers in Food Category (FC) 02.1.2 of the GSFA.

To be considered for revocation:

• Provisions for Monosodium Tartrate (INS 335(i)), Monopotassium Tartrate (INS 336(i)), Dipotassium Tartrate (INS 336(ii)) and Sodium Sorbate (INS 201) in the Standard for Fat Spreads and Blended Spreads (CXS 26-2007).

The committee will continue working on:

• Draft Revision of the Standard for Named Vegetable Oils (Codex Stand 201-1999): Essential composition of sunflower seed oils;

• Revision of the Standard for Olive Oils and Pomace Olive Oils (Codex Stan 33-1981);

• Considering proposals for new substances to be added to the list of acceptable previous cargoes and providing relevant information (if available from Member countries) to JECFA on the 23 substances on the list of acceptable previous cargoes currently on the list.

Responsible Agencies: HHS/FDA; USDA/Agricultural Research Service (ARS).

U.S. Participation: Yes.

Codex Committee on Methods of Analysis and Sampling

The Codex Committee on Methods of Analysis and Sampling (CCMAS) defines the criteria appropriate to Codex Methods of Analysis and Sampling; serves as a coordinating body for Codex with other international groups working on methods of analysis and sampling and quality assurance systems for laboratories; specifies, on the basis of final recommendations submitted to it by the bodies referred to above, reference methods of analysis and sampling appropriate to Codex standards which are generally applicable to a number of foods; considers, amends if necessary, and endorses as appropriate, methods of analysis and sampling proposed by Codex commodity committees, except for methods of analysis and sampling for residues of pesticides or veterinary drugs in food, the assessment of microbiological quality and safety in food, and the assessment of specifications for food additives; elaborates sampling plans and procedures, as may be required; considers specific sampling and analysis problems submitted to it by the Commission or any of its committees; and defines procedures, protocols, guidelines or related texts for the assessment of food laboratory proficiency, as well as quality assurance systems for laboratories.

The committee convened for its 40th Session in Budapest, Hungary, May 27-31, 2019. The relevant document is REP 19/MAS.

The following items will be considered by the 42nd Session of the Commission in July 2019:

To be considered for final adoption at Step 8:

• Methods of Analysis and Sampling Plans for Provisions in Codex Standards.

To be considered for final adoption at Step 5/8:

• Preamble and Document Structure for the General Standard for Methods of Analysis and Sampling

To be considered for adoption at Step 5, allowing for further consideration by the next session of CCMAS:

• Proposed Draft Revised Guidelines on Measurement Uncertainty.

To be considered for revocation:

• Methods of Analysis for Provisions in Codex Standards.

The committee will continue to discuss:

• Endorsement of methods of analysis and sampling plans for provisions in Codex standards;

• Review of dairy methods- dairy workable package;

• Review of cereals, pulses and legumes methods workable package;

• Review of the fats and oils methods;

• Review of the general guidelines on sampling.

Responsible Agencies: HHS/FDA; USDA/AMS.

U.S. Participation: Yes.

Codex Committee on Nutrition and Foods for Special Dietary Uses

The Codex Committee on Nutrition and Foods for Special Dietary Uses (CCNFSDU) is responsible for studying nutrition issues referred to it by the Codex Alimentarius Commission. The Committee also drafts general provisions, as appropriate, on nutritional aspects of all foods and develops standards, guidelines, or related texts for foods for special dietary uses in cooperation with other committees where necessary; considers, amends if necessary, and endorses provisions on nutritional aspects proposed for inclusion in Codex standards, guidelines, and related texts.

The committee convened for its 40th Session in Berlin, Germany, November 26-30, 2018. The reference document is REP 19/NFSDU.

The following items will be considered by the 42nd Session of the Commission in July 2019:

To be considered for adoption at Step 5, allowing for further consideration at the next session of CCNFSDU:

• Review of the Standard for Follow-up Formula: Proposed Proposed draft Scope, Description and Labelling for Follow-up Formula for Older Infants.

To be considered for revocation:

• Provisions for Monosodium Tartrate (INS 335(i)), Monopotassium Tartrate (INS 336(i)) and Dipotassium Tartrate (INS 336(ii)) in the Standard for Processed Cereal-Based Foods for Infant and Young Children.

To be considered for discontinuation:

• Nutrient Reference Values—Non-Communicable Diseases (NRV-NCD) for Eicosatetraenoic Acid (EPA) and Docosahexaenoic Acid (DHA) Long Chain Omega-3 Fatty Acids

The committee will continue to discuss:

• Review of the Standard for Follow up Formula;

• Nutrient References Value—Recommended (NRV-R) for older infants and young children;

• Mechanism/framework for considering the technological justification of food additives;

• Alignment of food additives;

• Consideration of a discussion paper on harmonized probiotic guidelines for use in foods and dietary supplements;

• Consideration of a discussion paper on general guidelines to establish nutritional profiles;

• Prioritization mechanism to better manage the work of CCNFSDU.

Responsible Agencies: HHS/FDA; USDA/ARS.

U.S. Participation: Yes.

Codex Committee on Processed Fruits and Vegetables

The Codex Committee on Processed Fruits and Vegetables (CCPFV) is responsible for elaborating worldwide standards and related texts for all types of processed fruits and vegetables including, but not limited to canned, dried, and frozen products, as well as fruit and vegetable juices and necttfa.

The committee convened for its 29th Session by correspondence, March 13-June 28, 2019.

The committee does not have items that will be considered for adoption by the 42nd Session of the Commission in July 2019.

The committee will continue working on:

• Chili sauce;

• Mango chutney;

• Gochujang;

• Dried fruits;

• Canned fruit salads;

• Referring matters back to CCFA for the use of functional classes and food additives in processed fruits and vegetables:

○ “Emulsifiers, stabilizers, thickeners” and xantham gum (INS 415) in Food Category 14.1.2 Fruit and Vegetable Juices and Food Category 14.1.3 Fruit and Vegetable Nectar;

○ Acidity regulators and tartrates (INS 334, 335(ii), 337) in Food Category 04.2.2 Dried Fruit;

○ Tartrates (INS 334, 335(ii), 337) in Food Category 04.1.2.6 Fruit Based Spreads (e.g., chutney), excluding products in Food Category 04.1.2.5; and

○ Use of colors in quick frozen French fried potatoes.

• Referring matters to CCMASS on a method for fat extraction prior to the use of the method for the determination of free fatty acids in quick-frozen French-fried potatoes and other matters related to methods of analysis and sampling for processed fruits and vegetables.

Responsible Agencies: USDA/Agricultural Marketing Service; HHS/FDA.

U.S. Participation: Yes.

Codex Committee on Pesticide Residues

The Codex Committee on Pesticide Residues (CCPR) is responsible for establishing maximum residue limits (MRLs) for pesticide residues in specific food items or in groups of food; establishing MRLs for pesticide residues in certain animal feeding stuffs moving in international trade where this is justified for reasons of protection of human health; preparing priority lists of pesticides for evaluation by the Joint FAO/WHO Meeting on Pesticide Residues (JMPR); considering methods of sampling and analysis for the determination of pesticide residues in food and feed; considering other matters in relation to the safety of food and feed containing pesticide residues; and establishing maximum limits for environmental and industrial contaminants showing chemical or other similarity to pesticides in specific food items or groups of food.

The committee convened for its 51st Session in Macau, China, April 8-13, 2019. The relevant document is REP 19/PR.

The following items will be considered at the 42nd Session of the Commission in July 2019:

To be considered for final adoption:

• MRLs for Different Combinations of Pesticide(s)/Commodity(ies) for Food and Feed;

• Revision of the Classification of Food and Feed: Miscellaneous Commodities not Meeting the Criteria for Crop Grouping.

To be considered for approval as new work:

• Development of Guidance for Compounds of Low Public Health Concerns that could be Exempted from the Establishment of CXLs;

• Class C: Primary Animal Feed Commodities. Type Miscellaneous Primary Feed Commodities and Class D: Processed Foods of Plant Origin. Type Miscellaneous Processed Foods of Plant Origin;

• Priority List of Pesticides for Evaluation by the 2020 JMPR.

To be considered for revocation:

• CXLs for Different Combinations of Pesticide/Commodity(ies) Proposed for Revocation by CCPR49.

The committee will continue to discuss the following items:

• Draft and Proposed Draft Revision of the Classification of Food and Feed:

○ Revision of Class C, Animal feed commodities, taking into account silage, fodder, and a separate group for grasses;

○ Revision of Class D, Processed Food commodities;

○ Transferring commodities from Class D to Class C;

○ Creating tables with representative crops for Class C and D;

○ Edible animal tissues (including edible offal) in collaboration with the Codex Committee on Residues of Veterinary Drugs in Foods (CCRVDF) EWG on edible animal tissues.

• Information on a National Registration Database of Pesticides—Establishment of a Codex Database of National Registration of Pesticides;

• Establishment of JMPR Schedules and Priority Lists for Evaluations of Pesticides;

• Discussion Paper on the Review of the International Estimated Short-Term Intake (IESTI) Equations (possible revision);

• Discussion Paper on the Management of Unsupported Compounds;

• Discussion Paper on the Opportunity to Revise the Guidelines on the Use of Mass Spectrometry for the Identification, Confirmation and Quantitative Determination of Pesticide Residues;

• Discussion Paper on Opportunities and Challenges for JMPR Participation in International Review of a New Compound.

Responsible Agencies: EPA; USDA/FSIS.

U.S. Participation: Yes.

Codex Committee on Residues of Veterinary Drugs in Foods

The Codex Committee on Residues of Veterinary Drugs in Foods (CCRVDF) determines priorities for the consideration of residues of veterinary drugs in foods and recommends Maximum Residue Limits (MRLs) for veterinary drugs. The Committee also develops codes of practice, as may be required, and considers methods of sampling and analysis for the determination of veterinary drug residues in food. A veterinary drug is defined as any substance applied or administered to any food producing animal, such as meat or milk producing animals, poultry, fish, or bees, whether used for therapeutic, prophylactic or diagnostic purposes, or for modification of physiological functions or behavior.

A Codex Maximum Residue Limit (MRL) for residues of veterinary drugs is the maximum concentration of residue resulting from the use of a veterinary drug (expressed in mg/kg or ug/kg on a fresh weight basis) that is recommended by the Codex Alimentarius Commission to be permitted or recognized as acceptable in or on a food. Residues of a veterinary drug include the parent compounds or their metabolites in any edible portion of the animal product and include residues of associated impurities of the veterinary drug concerned. An MRL is based on the type and amount of residue considered to be without any toxicological hazard for human health as expressed by the Acceptable Daily Intake (ADI) or on the basis of a temporary ADI that utilizes an additional safety factor. When establishing an MRL, consideration is also given to residues that occur in food of plant origin or the environment. Furthermore, the MRL may be reduced to be consistent with official recommended or authorized usage, approved by national authorities, of the veterinary drugs under practical conditions.

An ADI is an estimate made by the JECFA of the amount of a veterinary drug, expressed on a body weight basis, which can be ingested daily in food over a lifetime without appreciable health risk.

The Committee convened for its 24th Session in Chicago, Illinois, April 23-27, 2018. The relevant document is REP 18/RVDF.

The Committee does not have items that will be considered for adoption by the 42nd Session of the Commission in July 2019.

The committee will continue working on the following items:

• Draft MRL for flumethrin (honey);

• Proposed draft MRLs for zilpaterol hydrochloride (cattle fat, kidney, liver, muscle);

• Priority list of veterinary drugs approved by CAC41 (2018);

• Draft priority list of veterinary drugs for approval by CAC;

• Discussion paper on extrapolation of MRLs to one or more species (including a pilot on extrapolation of MRLs identified in Part D of the Priority List);

• Coordination with the CCPR/EWG on the revision of the Classification of Food and Feed for the development of a harmonized definition for edible offal/animal tissues for the establishment of MRLs;

• Database on countries needs for MRLs;

• Discussion paper on advantages and disadvantages of a parallel approach to compound evaluation.

Responsible Agencies: HHS/FDA/Center for Veterinary Medicine; USDA/FSIS.

U.S. Participation: Yes.

Codex Committee on Sugars

The Codex Committee on Sugars (CCS) elaborates worldwide standards for all types of sugars and sugar products.

The Committee has been re-activated electronically to work by correspondence on a draft standard for panela and/or common or vernacular name as known in each country (non-centrifuged sugar).

The following items will be considered by the 42nd Session of the Commission in July 2019:

To be considered for final adoption at Step 8:

• Draft Standard for panela and/or common or vernacular name as known in each country (non-centrifuged sugar).

Responsible Agencies: HHS/FDA.

U.S. Participation: Yes.

Codex Committee on Spices and Culinary Herbs

The Codex Committee on Spices and Culinary Herbs is responsible for elaborating worldwide standards for spices and culinary herbs in their dried and dehydrated state in whole, ground, and cracked or crushed form. It also consults, as necessary, with other international organizations in the standards development process to avoid duplication.

The committee convened for its 4th Session in Thiruvananthapuram (Trivandrum), Kerala, India, from January 21-25, 2019. The relevant document is REP 19/SCH.

The following items will be considered by the 42nd Session of the Commission in July 2019:

To be considered for final adoption at Step 5/8:

• Standard for Dried and/or Dehydrated Garlic.

To be considered for adoption at Step 5, allowing for further consideration at the next session of CCSCH:

• Draft standard for dried oregano;

• Draft standard for dried roots, rhizomes, and bulbs—dried or dehydrated ginger;

• Draft standard for dried basil;

• Draft standard for dried floral parts—dried cloves;

• Draft standard for saffron.

The committee will continue to discuss:

• Draft Standard for Dried and/or Dehydrated Chili and Paprika;

• Draft Standard for Nutmeg;

• Working Group (WG) on Priorities and Group Standards.

Responsible Agencies: USDA/AMS; HHS/FDA.

U.S. Participation: Yes.

Ad hoc Codex Intergovernmental Task Force on Antimicrobial Resistance

The Ad hoc Codex Intergovernmental Task Force on Antimicrobial Resistance (TFAMR) is responsible for reviewing and revising, as appropriate, the Code of Practice to Minimize and Contain Antimicrobial Resistance (CAC/RCP 61-2005) to address the entire food chain, in line with the mandate of Codex; and considering the development of Guidance on Integrated Surveillance of Antimicrobial Resistance, taking into account the guidance developed by the WHO Advisory Group on Integrated Surveillance of Antimicrobial Resistance (AGISAR) and relevant World Organization for Animal Health (OIE) documents. The objective of the Task Force is to develop science-based guidance on the management of foodborne antimicrobial resistance, taking full account of the WHO Global Action Plan on Antimicrobial Resistance, in particular Objectives 3 and 4, the work and standards of relevant international organizations, such as FAO, WHO, and OIE, and the One-Health approach, to ensure members have the necessary guidance to enable coherent management of antimicrobial resistance along the food chain. The Task Force is expected to complete this work within three (or a maximum of four) sessions.

The Task Force convened for its 6th Session (the 2nd Session since reactivation in 2016) in Busan, Republic of Korea, December 10-14, 2018, working on draft text for the Code of Practice (CoP) and Guidance on Integrated Surveillance (GLIS).

The task force does not have items that will be considered for adoption by the 42nd Session of the Commission in July 2019.

The task force will continue to discuss:

• Proposed draft revision of the Code of Practice to Minimize and Contain Antimicrobial Resistance;

• Proposed draft Guidelines on Integrated surveillance of Antimicrobial Resistance;

• Requests for Scientific Advice from FAO and WHO in collaboration with OIE.

Responsible Agencies: FDA/USDA.

U.S. Participation: Yes.

Adjourned Codex Commodity Committees

Several Codex Alimentarius Commodity Committees have adjourned sine die. The following Committees fall into this category:

Cocoa Products and Chocolate—adjourned 2001

Responsible Agency: HHS/FDA, DCO/NOAA.

U.S. Participation: Yes.

Fish and Fishery Products—adjourned 2016

Responsible Agency: HHS/FDA/NOAA.

U.S. Participation: Yes.

Meat Hygiene—adjourned 2003

Responsible Agency: USDA/FSIS.

U.S. Participation: Yes.

Milk and Milk Products—adjourned 2017

Responsible Agency: USDA/AMS; HHS/FDA.

U.S. Participation: Yes.

Natural Mineral Waters—adjourned 2008

Responsible Agency: HHS/FDA.

U.S. Participation: Yes.

Vegetable Proteins—adjourned 1989

Responsible Agency: USDA/ARS.

U.S. Participation: Yes.

FAO/WHO Regional Coordinating Committees

The FAO/WHO Regional Coordinating Committees define the problems and needs of the regions concerning food standards and food control; promote within the committee contacts for the mutual exchange of information on proposed regulatory initiatives and problems arising from food control and stimulate the strengthening of food control infrastructures; recommend to the Commission the development of worldwide standards for products of interest to the region, including products considered by the committees to have an international market potential in the future; develop regional standards for food products moving exclusively or almost exclusively in intra-regional trade; draw the attention of the Commission to any aspects of the Commission's work of particular significance to the region; promote coordination of all regional food standards work undertaken by international governmental and non-governmental organizations within each region; exercise a general coordinating role for the region and such other functions as may be entrusted to them by the Commission; and promote the use of Codex standards and related texts by members.

There are six regional coordinating committees:

• Coordinating Committee for Africa;

• Coordinating Committee for Asia;

• Coordinating Committee for Europe;

• Coordinating Committee for Latin America and the Caribbean;

• Coordinating Committee for the Near East;

• Coordinating Committee for North America and the South West Pacific.

Coordinating Committee for Africa

The Committee (CCAFRICA) will convene its 23rd Session in Nairobi, Kenya, September 2-6, 2019.

The committee will discuss the following agenda items:

• Use of Codex standards in the region;

• Matters referred from the Codex Alimentarius Commission and other Codex Committees;

• Implementation of the Codex Strategic Plan 2014-2019;

• Codex Strategic Plan 2020-2025;

• Codex communication work plan;

• Draft standard for fermented cooked cassava-based products;

• Draft standard for Gnetum spp leaves;

• Proposed draft standard for dried meat;

• Discussion paper on regional harmonized food law guidelines for the CCAFRICA region;

• Discussion paper on the development of a regional standard for fermented non-alcoholic cereal-based drink (Mahewu);

• Nomination of the coordinator;

• Other business.

Responsible Party: USDA/TFAA/USCO.

U.S. Participation: Yes (as observer).

Coordinating Committee for Asia

The Committee (CCASIA) will convene for its 21st Session in Goa, India, September 23-27, 2019.

The committee will discuss the following agenda items:

• Use of Codex standards in the region;

• Matters arising from the Codex Alimentarius Commission and other Codex Committees;

• Codex work relevant to the region;

• Implementation of the Codex Strategic Plan 2014-2019;

• Codex Strategic Plan 2020-2025;

• Codex communication work plan;

• Discussion paper/project document on the development of a regional standard for rice-based low alcohol beverages (cloudy types);

• Discussion paper/project document on the development of a regional standard for soybean products fermented with the bacterium Bacillus subtilis;

• Discussion paper/project document on the development of a regional standard for quick frozen dumplings (Ziaozi);

• Discussion paper/project document on the development of a regional standard/code of practice for Zongzi;

• Nomination of coordinator;

• Other business.

Responsible Party: USDA/TFAA/USCO.

U.S. Participation: Yes (as observer).

Coordinating Committee for Europe

The Committee (CCEURO) will convene for its 31st Session in Almaty, Kazakhstan, September 30-October 4, 2019.

The agenda will be announced at a later date. It will be posted at: http://www.fao.org/fao-who-codexalimentarius/meetings/en/.

Responsible Party: USDA/TFAA/USCO.

U.S. Participation: Yes (as observer).

Coordinating Committee for Latin America and the Caribbean

The Committee (CCLAC) will convene for its 21st Session in Santiago, Chile, October 21-25, 2019.

The agenda will be announced at a later date. It will be posted at: http://www.fao.org/fao-who-codexalimentarius/meetings/en/.

Responsible Party: USDA/TFAA/USCO.

U.S. Participation: Yes (as observer).

Coordinating Committee for North America and the South West Pacific

The Committee will convene for its 15th Session in Port Vila, Vanuatu, September 16-20, 2019.

The Committee will continue discuss the following agenda items:

• Food safety and quality situation in the countries of the region:

○ Current and emerging issues in the region;

○ Use of the online platform for information sharing on food safety control systems; status of information and future plans/prospects;

• Use of Codex standards in the region;

• Matters referred from the Codex Alimentarius Commission and other Codex Committees;

• Codex work relevant to the region;

• Implementation of the Codex Strategic Plan 2014-2019;

• Codex Strategic Plan 2020-2025;

• Codex communications work plan;

• Proposed draft standard for fermented noni juice;

• Proposed draft standard for kava as a beverage when mixed with cold water;

• Nomination of the coordinator;

• Other business.

Responsible Party: USDA/TFAA/USCO.

U.S. Participation: Yes.

Coordinating Committee for the Near East

The Committee (CCNEA) will convene for its 10th Session on November 18-22, 2019.

The agenda will be announced at a later date. It will be posted at: http://www.fao.org/fao-who-codexalimentarius/meetings/en/.

Responsible Party: USDA/TFAA/USCO.

U.S. Participation: No.

Contact: U.S. Codex Office, United States Department of Agriculture, Room 4861, South Agriculture Building, 1400 Independence Avenue SW, Washington, DC 20250-3700, Phone: (202) 205-7760, Fax: (202) 720-3157, Email: uscodex@usda.gov.

ATTACHMENT 2

U.S. Codex Alimentarius Officials

Chairpersons from the United States

Codex Committee on Food Hygiene

Dr. Emilio Esteban, DVM, MBA, MPVM, Ph.D., Chief Scientist, Office of Public Health Science, Food Safety and Inspection Service, U.S. Department of Agriculture, 1400 Independence Ave. SW, Room 2129—South Building, Washington, DC 20250, Phone: (202) 690 9058-3429, Email: emilio.esteban@usda.gov.

Codex Committee on Processed Fruits and Vegetables

Mr. Richard Boyd, Chief, Contract Services Branch, Specialty Crops Inspection Division, Specialty Crops Program, Agricultural Marketing Service, U.S. Department of Agriculture, 1400 Independence Avenue SW, Mail Stop 0247, Room 0726—South Building, Washington, DC 20250, Phone: (202) 690-1201, Fax: (202) 690-1527, richard.boyd@usda.gov.

Codex Committee on Residues of Veterinary Drugs in Foods

Dr. Kevin Greenlees, Ph.D., DABT, Senior Advisor for Science and Policy, Office of New Animal Drug Evaluation, HFV-100, Center for Veterinary Medicine, U.S. Food and Drug Administration, 7500 Standish Place, Rockville, MD 20855, Phone: (240) 402-0638, Fax: (240) 276-9538, kevin.greenlees@fda.hhs.gov.

U.S. Delegates and Alternate Delegates

Worldwide General Codex Subject Committees

Contaminants in Foods

(Host Government—The Netherlands)

U.S. Delegate: Dr. Lauren Posnick Robin, Ph.D., Branch Chief, Plant Products Branch, Division of Plant Products and Beverages, Office of Food Safety (HFS-317), Center for Food Safety and Applied Nutrition, U.S. Food and Drug Administration, 5001 Campus Drive, College Park, MD 20740, Phone: +1 (240) 402-1639, lauren.fobin@fda.hhs.gov.

Alternate Delegate: Mr. Terry Dutko, Laboratory Director, Food Safety and Inspection Service, Office of Public Health Science, U.S. Department of Agriculture, 4300 Goodfellow Building, 105D Federal, St. Louis, MO 63120-0005, Phone: +1 (314) 263-2680, Extension 344, tery.dutko@usda.gov.

Food Additives

(Host Government—China)

U.S. Delegate: Dr. Paul S. Honigfort, Ph.D., Consumer Safety Officer, Division of Food Contact Notifications (HFS-275), Office of Food Additive Safety, U.S. Food and Drug Administration, 5001 Campus Drive, College Park, MD 20740, Phone: +1 (240) 402-1206, Fax: +1 (301) 436-2965, paul.honigfort@fda.hhs.gov.

Alternate Delegate: Dr. Daniel Folmer, Ph.D., Chemist, Center for Food Safety and Applied Nutrition, U.S. Food and Drug Administration, 5001 Campus Drive, Room 3017, HFS-265, College Park, MD 20740, Phone: +1 (240) 402-1274, daniel.folmer@fda.hhs.gov.

Food Hygiene

(Host Government—United States)

U.S. Delegate: Ms.Jenny Scott, Senior Advisor, Office of Food Safety, Center for Food Safety and Applied Nutrition, U.S. Food and Drug Administration, 5001 Campus Drive, HFS-300, Room 3B-014, College Park, MD 20740-3835, Phone: +1 (240) 402-2166, Fax: +1 (301) 436-2632, jenny.scott@fda.hhs.gov.

Alternate Delegate: Dr. William Shaw, Director, Risk, Innovation and Management Staff, Food Safety and Inspection Service, 355 E Street SW, Room 8-142, Patriots Plaza III, Washington, DC 20024, Phone: +1 (301) 504-0852, william.shaw@usda.gov.

Alternate Delegate: Dr. Andrew Chi Yuen Yeung, Ph.D., Branch Chief, Egg and Meat Products Branch, Division of Dairy, Egg and Meat Products, Office of Food Safety, Center for Food Safety and Applied Nutrition, U.S. Food and Drug Administration, 5001 Campus Drive, College Park, MD 20740, Phone: +1 (240) 402-1541, Fax: +1 (301) 436-2632, andrew.yeung@fda.hhs.gov.

Food Import and Export Certification and Inspection Systems

(Host Government—Australia)

U.S. Delegate: Ms. Mary Stanley, Senior Advisor, Office of International Coordination, Food Safety and Inspection Service, U.S. Department of Agriculture, 1400 Independence Avenue SW, Room 3151, Washington, DC 20250, Phone: +1 (202) 720-0287, Fax: +1 (202) 690-3856, mary.stanley@usda.gov.

Alternate Delegate: Ms. Caroline Smith DeWaal, International Food Safety Policy Manager, Office of the Center Director, Center for Food Safety and Applied Nutrition, U.S. Food and Drug Administration, 5001 Campus Drive, Room 4A011, College Park, MD 20740-3835, Phone: +1 (240) 402-1242, caroline.dewaal@fda.hhs.gov.

Food Labelling

(Host Government—Canada)

U.S. Delegate: Dr. Douglas Balentine, Director, Office of Nutrition and Food Labelling, Center for Food Safety and Applied Nutrition, U.S. Food and Drug Administration, 5001 Campus Drive (HFS-830), College Park, MD 20740, Phone: +1 240 402 2373, Fax: +1 (301) 436-2636, douglas.balentine@fda.hhs.gov.

Alternate Delegate: Mr. Bryce Carson, Issues Analyst, International Relations and Strategic Planning Staff, Food Safety and Inspection Service, U.S. Department of Agriculture, 1400 Independence Avenue SW, Washington, DC 20250, Phone: +1 (202) 250-8915, bryce.carson@usda.gov.

General Principles

(Host Government—France)

U.S. Delegate: Ms. Mary Frances Lowe, U.S. Manager for Codex Alimentarius, U.S. Codex Office, U.S. Department of Agriculture, 1400 Independence Avenue SW, Room 4861, Washington, DC 20250, Phone: +1 (202) 720-2057, maryfrances.lowe@usda.gov.

Alternate Delegate: Ms. Camille Brewer, Director of International Affairs, Center for Food Safety and Applied Nutrition, U.S. Food and Drug Administration, 5100 Paint Branch Parkway, HFS-1, College Park, MD 20740-3835, Phone: +1 (240) 402-1723, camille.brewer@fda.hhs.gov.

Methods of Analysis and Sampling

(Host Government—Hungary)

U.S. Delegate: Dr. Gregory Noonan, Director, Division of Bioanalytical Chemistry, Division of Analytical Chemistry, Center for Food Safety and Applied Nutrition, Food and Drug Administration, 5001 Campus Drive, College Park, MD 20740, Phone: +1 (240) 402-2250, Fax: +1 (301) 436-2332, gregory.noonan@fda.hhs.gov.

Alternate Delegate: Dr. Timothy Norden, Ph.D., Technology and Science Division, Federal Grain Inspection Program, Agricultural Marketing Service, U.S. Department of Agriculture, 10383 N Ambassador Drive, Kansas City, MO 64153, Phone: +1 (816) 891-0470, Fax: +1 (816) 872-1253, timothy.d.norden@usda.gov.

Nutrition and Foods for Special Dietary Uses

(Host Government—Germany)

U.S. Delegate: Dr. Douglas Balentine, Director, Office of Nutrition and Food Labelling, Center for Food Safety and Applied Nutrition, U.S. Food and Drug Administration, 5001 Campus Drive (HFS-830), College Park, MD 20740, +1 240 402 2373, Fax: +1 (301) 436-2636, douglas.balentine@fda.hhs.gov.

Alternate Delegate: Dr. Pamela R. Pehrsson, Ph.D., Research Leader, U.S. Department of Agriculture, Agricultural Research Service, Nutrient Data Laboratory, Room 105, Building 005, BARC-West, 10300 Baltimore Avenue, Beltsville, MD 20705, 301.504.0630 (voice), 301.504.0632 (fax), pamela.pehrsson@usda.gov.

Pesticide Residues

(Host Government—China)

U.S. Delegate: Captain David Miller, Chief, Chemistry and Exposure Branch, and acting Chief, Toxicology and Epidemiology Branch, Health Effects Division, William Jefferson Clinton Building, 1200 Pennsylvania Avenue NW, Washington, DC 20460, Phone: +1 (703) 305-5352, Fax: +1 (703) 305-5147, miller.davidj@epa.gov.

Alternate Delegate: Dr. John Johnston, Ph.D., Scientific Liaison/Chemist, Food Safety and Inspection Service, U.S. Department of Agriculture, 2150 Centre Avenue, Building D, Suite 320, Fort Collins, CO 80526, Phone: (202) 365-7175, john.johnston@usda.gov.

Residues of Veterinary Drugs in Foods

(Host Government—United States)

U.S. Delegate: Ms. Brandi Robinson, MPH, CPH, ONADE International Coordinator, Center for Veterinary Medicine, U.S. Food and Drug Administration, 7500 Standish Place (HFV-100), Rockville, MD 20855, Phone: +1 (240) 402-0645, brandi.robinson@fda.hhs.gov.

Alternate Delegate: Dr. Louis Bluhm, Chemistry Branch Chief, Laboratory Quality Assurance Division, U.S. Department of Agriculture, Food Safety and Inspection Service, Russell Research Center, Suite PB-4, Athens, GA, Phone: +1 (706) 546-2359, louis.bluhm@usda.gov.

Worldwide Commodity Codex Committees (Active)

Cereals, Pulses and Legumes

(Host Government—United States)

U.S. Delegate: Dr. Henry Kim, Ph.D., Senior Policy Analyst, Office of Food Safety, Center for Food Safety and Applied Nutrition, U.S. Food and Drug Administration, 5001 Campus Drive (HFS-317), College Park, MD, USA 20740-3835, Phone: +1 (240) 402-2023, henry.kim@fda.hhs.gov.

Alternate Delegate: Mr. Patrick McCluskey, Supervisory Agricultural Marketing Specialist, U.S. Department of Agriculture, Agricultural Marketing Service, Federal Grain Inspection Service, 10383 N Ambassador Drive, Kansas City, MO 64153, Phone: +1 (816) 659-8403, patrick.j.mccluskey@usda.gov.

Fats and Oils

(Host Country—Malaysia)

U.S. Delegate: Dr. Paul South, Ph.D., Director, Division of Plant Products and Beverages, Office of Food Safety (HFS-317), Center for Food Safety and Applied Nutrition, U.S. Food and Drug Administration, 5001 Campus Drive, College Park, MD 20740-3835, Phone: +1 (240) 402-1640, Fax: +1 (301) 436-2632, paul.south@fda.hhs.gov.

Alternate Delegate: Vacant

Fresh Fruits and Vegetables

(Host Government—Mexico)

U.S. Delegate: Mr. Dorian LaFond, International Standards Coordinator, Fruit and Vegetables Program, Specialty Crop Inspection Division, Agricultural Marketing Service, U.S. Department of Agriculture, 1400 Independence Avenue SW—Mail Stop 0247, Washington, DC 20250-0247, Phone: +1 (202) 690-4944, Fax: +1 (202) 690-1527, dorian.lafond@usda.gov.

Alternate Delegate: Dr. David T. Ingram, Ph.D., Consumer Safety Officer, Office of Food Safety, Fresh Produce Branch, Division of Produce Safety, Center for Food Safety and Applied Nutrition, U.S. Food and Drug Administration, 5001 Campus Drive, Room 3E027, College Park, MD 20740-3835, Phone: +1 (240) 402-0335, david.ingram@fda.hhs.gov.

Processed Fruits and Vegetables

(Host Government—United States)

U.S. Delegate: Mr. Dorian LaFond, International Standards Coordinator, Fruit and Vegetables Program, Specialty Crop Inspection Division, Agricultural Marketing Service, U.S. Department of Agriculture, 1400 Independence Avenue SW—Mail Stop 0247, Washington, DC 20250-0247, Phone: +1 (202) 690-4944, Fax: +1 (202) 690-1527, dorian.lafond@usda.gov.

Alternate Delegate: Dr. Yinqing Ma, Branch Chief, Beverages Branch, Division of Plant Products and Beverages, Office of Food Safety (HFS-317), Center for Food Safety and Applied Nutrition, U.S. Food and Drug Administration, 5001 Campus Drive, College Park, MD 20740, Phone: +1 (240) 402-2479, Fax: +1 (301) 436-2632, yinqing.ma@fda.hhs.gov.

Spices and Culinary Herbs

(Host Government—India)

U.S. Delegate: Mr. Dorian LaFond, International Standards Coordinator, Fruit and Vegetables Program, Specialty Crop Inspection Division, Agricultural Marketing Service, U.S. Department of Agriculture, 1400 Independence Avenue SW—Mail Stop 0247, Washington, DC 20250-0247, Phone: +1 (202) 690-4944, Fax: +1 (202) 690-1527, dorian.lafond@usda.gov.

Alternate Delegate: Dr. Aparna Tatavarthy, Microbiologist, Spices and Seasoning Mixes Team, Division of Plant Products and Beverages, Office of Food Safety (HFS-317), Center for Food Safety and Applied Nutrition, U.S. Food and Drug Administration, 5001 Campus Drive, College Park, MD 20740, Phone: +1 (240) 402-1013, Fax: +1 (301) 436-2632, aparna.tatavarthy@fda.hhs.gov.

Codex Committee on Sugars (CCS)

(Host Government—Columbia)

U.S. Delegate: Dr. Chia-Pei Charlotte Liang, Chemist, Office of Food Safety, Center for Food Safety and Applied Nutrition, U.S. Food and Drug Administration, 5001 Campus Drive, College Park, MD 20740, Phone: +1 (240) 402-2785, charlotte.liang@fda.hhs.gov.

Worldwide Ad Hoc Codex Task Forces (Active)

Antimicrobial Resistance (Reactivated 2016)

(Host Government—Republic of Korea)

U.S. Delegate: Dr. Donald A. Prater, DVM, Assistant Commissioner for Food Safety Integration, Office of Foods and Veterinary Medicine, Food and Drug Administration, 10903 New Hampshire Avenue, Silver Spring, MD 20993, Phone: +1-301-348-3007, donald.prater@fda.hhs.gov.

Alternate Delegate: Dr. Neena Anandaraman, DVM, MPH, Veterinary Science Policy Advisor, Office of Chief Scientist, U.S. Department of Agriculture, Jamie L. Whitten Building, Room 339A, 1200 Independence Avenue SW, Washington, DC 20024, Phone: +1 (202) 260-8789, neena.anandaraman@usda.gov.

Worldwide Commodity Codex Committees (Adjourned)

Cocoa Products and Chocolate (adjourned sine die 2001)

(Host Government—Switzerland)

U.S. Delegate: Dr. Michelle Smith, Ph.D., Senior Policy Analyst, Office of Food Safety, Center for Food Safety and Applied Nutrition, U.S. Food and Drug Administration (HFS-317), Harvey W. Wiley Federal Building, 5001 Campus Drive, College Park, MD 20740-3835, Phone: +1 (240) 402-2024, Fax: +1 (301) 436-2632, michelle.smith@fda.hhs.gov.

Fish and Fishery Products (adjourned sine die 2016)

(Host Government—Norway)

U.S. Delegate: Dr. William R. Jones, Ph.D., Deputy Director, Office of Food Safety (HFS-300), U.S. Food and Drug Administration, 5001 Campus Drive, College Park, MD 20740, Phone: +1 (240) 402-2300, Fax: +1 (301) 436-2601, william.jones@fda.hhs.gov.

Alternate Delegate: Mr. Steven Wilson, Deputy Director, Office of International Affairs and Seafood Inspection, National Marine Fisheries Service, NOAA, U.S. Department of Commerce, 1315 East West Highway, Silver Spring, Maryland 20910, Phone: +1 (301) 427-8312, steven.wilson@noaa.gov.

Meat Hygiene (adjourned sine die 2003)

(Host Government—New Zealand)

Delegate: Vacant

Milk and Milk Products (adjourned sine die 2017)

(Host Government—New Zealand)

U.S. Delegate: Mr. Christopher Thompson, Dairy Standardization Branch, Mail Stop 0230, Room 2756, Agricultural Marketing Service, U.S. Department of Agriculture, 1400 Independence Avenue SW, Washington, DC 20250, Phone: +1 (202) 720-9382, Fax: +1 (844) 804-4701, christopher.d.thompson@usda.gov.

Alternate Delegate: Mr. John F. Sheehan, Director, Division of Dairy, Egg and Meat Product Safety, Office of Food Safety, Center for Food Safety and Applied Nutrition, U.S. Food and Drug Administration (HFS-315), Harvey W. Wiley Federal Building, 5001 Campus Drive, College Park, MD 20740, Phone: +1 (240) 402-1488, Fax: +1 (301) 436-2632, john.sheehan@fda.hhs.gov.

Natural Mineral Waters (adjourned sine die 2008)

(Host Government—Switzerland)

U.S. Delegate: Dr. Yinqing Ma, Branch Chief, Beverages Branch, Division of Plant Products and Beverages, Office of Food Safety (HFS-317), Center for Food Safety and Applied Nutrition, U.S. Food and Drug Administration, 5001 Campus Drive, College Park, MD 20740, Phone: +1 (240) 402-2479, Fax: +1 (301) 436-2632, yinqing.ma@fda.hhs.gov.

Vegetable Proteins (adjourned sine die 1989)

(Host Government—Canada)

Delegate: Vacant.

Ad Hoc Intergovernmental Task Forces (Dissolved)

Animal Feeding (Dissolved 2013)

(Host government—Switzerland)

Delegate: Vacant

[FR Doc. 2019-14076 Filed 7-1-19; 8:45 am]

BILLING CODE P